DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: The Safe Schools/Healthy Students (SS/HS) Initiative National Evaluation (OMB No. 0930-0297)—Revision

SAMHSA's Center for Mental Health Services (CMHS) will conduct a study to evaluate the relationships between different grantee characteristics and implementation strategies to outcomes at the project, school, and student level. Data collected by this study will facilitate an examination of contextual factors and inform those who hope to improve the effectiveness of partnerships and implementation efforts under the grant and lead to improved outcomes for communities, schools, and students. The three agencies sponsoring the SS/HS Initiative (the U.S. Department of Health and Human Services, the U.S. Department of Education, and the U.S. Department of Justice) may also choose to incorporate aggregate results from collected data in journal articles, scholarly presentations, and congressional testimony referring to the outcomes of the SS/HS grant program.

Data collection activities involve the administration of four separate surveys (a Baseline Assessment Survey, a Project-Level Survey, a School-Level Survey, and a Staff School Climate Survey) and a Site Visit Protocol for individuals involved with the SS/HS Initiative at the local grantee level. Respondents will submit their responses for all surveys via Qualtrics, a third-party, online Web-based survey platform, except for the Site Visit Protocol, which will be administered on site with grantees.

The estimated burden for data collection is 5,732 hours across a total of 28,125 participants. Using median hourly wage estimates reported by the Bureau of Labor Statistics, May 2009 National Occupational Employment and Wage Estimates, and a loading rate of 25%, the estimated total cost to respondents is $207,343. A breakdown of these estimates is presented in Table 1 below.

Table 1—Elements of Annualized Hour-Cost Burden of Data Collection *
Instrument description | Anticipated number of respondents | Responses per respondent | Average hours per response | Total annual hour burden
Site Visit Protocol | 100 | 1 | 9 | 900
Baseline Assessment Survey | 25 | 1 | .67 | 17
Partnership Inventory | 400 | 1 | 0.25 | 100
Project-Level Survey | 100 | 1 | 0.42 | 42
School-Level Survey | 2,300 | 1 | 0.45 | 1,725
Staff School Climate Survey | 25,200 | 1 | 0.117 | 2,948
Total | 28,125 |  |  | 5,732
* Number of respondents based on an estimated annual average of 100 grantees. Baseline Assessment Survey administered only to grantees in the 2011-2013 cohorts. School-Level Survey estimates based on an average of 23 schools per grant. Staff School Climate Survey estimates based on 252 respondents per grantee. Average hours per response based on previous evaluation and pilot tests.

Written comments and recommendations concerning the proposed information collection should be sent by August 24, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: July 18, 2011.
Elaine Parry,
Director, Office of Management, Technology and Operations.

[FR Doc. 2011-18759 Filed 7-22-11; 8:45 am]

BILLING CODE 4162-20-P